DEPARTMENT OF HOUSING AND URBAN DEVELOPMENT

[Docket No. FR-4561-N-21]

Notice of Submission of Proposed Information Collection to OMB; Emergency Comment Request Lenders Qualification for Multifamily Accelerated Processing

AGENCY: Officer of the Chief Information Officer, HUD.

ACTION: Notice.

SUMMARY: The proposed information collection requirement described below has been submitted to the Office of Management and Budget (OMB) for emergency review and approval, as required by the Paperwork Reduction Act. The Department is soliciting public comments on the subject proposal.

DATES: Comments Due Date: April 14, 2000.

ADDRESSES: Interested persons are invited to submit comments regarding this proposal. Comments should refer to the proposal by name or OMB approval number and should be sent to: Joseph F. Lackey, Jr., HUD Desk Officer, Office of Management and Budget, New Executive Office Building, Washington, DC 20410 (202) 395-7316.

FOR FURTHER INFORMATION CONTACT: Wayne Eddins, Reports Management Officer, Department of Housing and Urban Development, 451 7th Street, SW, Washington, DC 20410; e-mail Wayne_Eddins@HUD.gov; telephone (202) 708-2374. This is not a toll-free number. Copies of the proposed forms and other available documents submitted to OMB may be obtained from Mr. Eddins.

SUPPLEMENTARY INFORMATION: The Department has submitted the proposal for the collection of information, as described below, to OMB for review as required by the Paperwork Reduction Act (44 U.S.C. Chapter 35). HUD has requested OMB approval by April 21, 2000. An agency may not conduct or sponsor, and a person is not required to respond to, a collection of information unless collection displays a valid control number. This notice contains the following information:

(1) The title for the collection of information;

(2) A summary of the collection of information;

(3) A brief description of the need for the information and proposed use of the information;

(4) A description of the likely respondents, including the estimated number of likely respondents, and proposed frequency of response to the collection of information;

(5) An estimate of the total annual reporting and recordkeeping burden that will result from the collection of information;

This Notice also lists the following information:

Title of Proposed: Lender Qualifications for multifamily Accelerated Processing

OMB Control number, if Applicable: 2502-XXXX.

Agency Form Number, if Applicable: None.

Description of the Need for the Information and its Proposed Use: FHA-approved mortgagees (lenders) will be required to submit to HUD information to show that they have an experienced multifamily underwriter on staff, and that they have satisfactory record on lending on multifamily housing properties. These additional requirements will enable a qualified lender to take advantage of a mortgage application processing plan that should take substantially less processing time than traditional multifamily mortgage processing where HUD staff prepares many of the processing documents. The information includes (a) identification of the applicant lender; (b) names of those authorized to commit the lender to a mortgage insurance application; (c) copy of approval as an FHA multifamily mortgagee; (d) method of operation in multifamily lending; e.g. whether loans are serviced, and experience in construction loan administration; (e) Experience in multifamily lending, including both conventional lending and FHA insured mortgage lending; (f) experience of key personnel, including underwriter or underwriters; (g) and agreement that the lender will open its files and records to monitoring by HUD staff or one or more loans or originated by the lender under the MAP process.

Need and Use of the Information: The information is needed for HUD to qualify lenders to process applications for mortgage insurance under the Multifamily Accelerated processing guide. Once a lender is approved, its name will be posted on the web. Once approval is given, there are no requirements for further qualifications. Form Number (s): No form required. Qualified lenders will submit exhibits, such as resumes, and use a narrative description. Lender Qualifications are posted on the worldwide web. Chapter 2 of the MAP Guide is posted on worldwide web: The Netsite address is: http://@www.hud.gov/fha/mfh/map/mapguide.html

Respondents: Lenders which are approved FHA multifamily mortgagees.

Reporting burden:.

Number of respondents | × | Frequency of response | × | Hours per response | = | Burden hours
130 |  | 1 |  | 10 |  | 1,300

Status of The Proposed Information Collection: Emergency.

Authority: The Paperwork Reduction Act of 1995, 44 U.S.C. 35, as amended.

Dated: April 3, 2000.
Wayne Eddins,
Department Reports Management Officer, Office of the Chief Information Officer.

[FR Doc. 00-8633 Filed 4-6-00; 8:45 am]

BILLING CODE 4210-01-M